SECURITIES AND EXCHANGE COMMISSION

Proposed Collection; Comment Request

Upon Written Request, Copies Available From: Securities and Exchange Commission, Office of Filings and Information Services, Washington, DC 20549.

Extension:

Rule 19b-7 and Form 19b-7; SEC File No. 270-495; OMB Control No. 3235-0553.

Notice is hereby given that pursuant to the Paperwork Reduction Act of 1995,¹ the Securities and Exchange Commission (“Commission”) has submitted to the Office of Management and Budget (“OMB”) a request for extension of the previously approved collection of information discussed below.

¹ 44 U.S.C. 3501 et seq.

Rule 19b-7 (Security Futures Product Rule Changes) requires every self-regulatory organization that is an exchange registered with the Commission pursuant to Section 6(g) ² or that is a national securities association registered pursuant to Section 15A(k) ³ to file with the Commission, in accordance with such rules as the Commission may prescribe, copies of any proposed rule change or any proposed change in, addition to, or deletion from the rules of such self-regulatory organization (“proposed rule change”) that relates to higher margin levels, fraud or manipulation, recordkeeping, reporting, listing standards, or decimal pricing for security futures products, sales practices for security futures products for persons who effect transactions in security futures products, or rules effectuating such self-regulatory organization's obligation to enforce the securities laws. The proposed rule change must be accompanied by a concise general statement of the basis and purpose of such proposed rule change. In addition, Rule 19b-7 requires the Commission to, upon the filing of any proposed rule change, promptly publish notice of any proposed rule filing together with the terms of substance of the proposed rule change or a description of the subjects and issues involved. The Commission is also required to give interested persons an opportunity to submit data, views, and arguments concerning the proposed rule change.

² 15 U.S.C. 78f(g).

³ 15 U.S.C. 78o-3(k).

The SEC estimates that the total burden for all respondents to the Form 19b-7 would be 1860 hours per year (15.5 hours/filing per respondent × 8 respondents × 15 filings/year per respondent). The SEC estimates that the total cost burden for all respondents would be $203,520 per year ($1696/filing × 8 respondents × 15 filings/year per respondent).

Written comments are invited on: (a) Whether the proposed collections of information are necessary for the proper performance of the functions of the agency, including whether the information will have practical utility; (b) the accuracy of the agency's estimate of the burden of the proposed collections of information; (c) ways to enhance the quality, utility, and clarity of the information to be collected; and (d) ways to minimize the burden of collections of information on those who are to respond, including through the use of automated collection techniques or other forms of information technology. Consideration will be given to comments and suggestions submitted in writing within 60 days of this publication.

Comments should be directed to R. Corey Booth, Director/Chief Information Officer, Office of Information Technology, Securities and Exchange Commission, 450 Fifth Street, NW., Washington, DC 20549.

Dated: May 20, 2004.
Margaret H. McFarland,
Deputy Secretary.

[FR Doc. 04-12197 Filed 5-28-04; 8:45 am]

BILLING CODE 8010-01-P